DEPARTMENT OF AGRICULTURE

Rural Utilities Service

East Texas Electric Cooperative: Notice of Intent To Hold a Public Scoping Meeting and Prepare an Environmental Assessment

AGENCY: Rural Utilities Service, USDA.

ACTION: Notice of Intent to Hold A Public Scoping Meeting and Prepare an Environmental Assessment.

SUMMARY: The Rural Utilities Service (RUS), an agency delivering the United States Department of Agriculture (USDA) Rural Development Utilities Programs, hereinafter referred to as Rural Development, intends to hold a public scoping meeting and prepare an Environmental Assessment (EA) related to possible financial assistance to East Texas Electric Cooperative (ETEC) of Nacogdoches, Texas, for the proposed construction of approximately 168 MW simple cycle combustion turbine generation station in Hardin County, Texas. ETEC is requesting USDA Rural Development to provide financial assistance for the proposal.

DATES: USDA Rural Development will hold a scoping meeting in an open house format in order to provide information and solicit comments for the preparation of an EA. The meeting will be held on September 26, 2007, from 5 to 8 p.m. at the Hardin County Commissioners' Courtroom, 300 Monroe Street, Kountz, Texas 77625. Submit questions and comments in writing by October 26, 2007.

ADDRESSES: To send comments or for further information, contact: Dennis Rankin, Environmental Protection Specialist, USDA, Rural Development Utilities Programs, Engineering and Environmental Staff, 1400 Independence Avenue, SW., Stop 1571, Washington, DC 20250-1571, telephone (202) 720-1953, or e-mail: dennis.rankin@wdc.usda.gov. An Alternative Evaluation/Site Selection Study will be available for public review at USDA Rural Development offices at 1400 Independence Avenue, SW., Washington, DC 20250-1571; at the following Web site http://www.usda.gov/rus/water/ees/ea.htm.

SUPPLEMENTARY INFORMATION: ETEC is constructing the Cypress Peaking Power Facility (CPPF), a 168 MW simple cycle combustion turbine generation station, in Hardin County, Texas. The project is located approximately 6 miles southeast of Kountze and one-half mile west of U.S. Highway 69/287, and will be adjacent to an existing Entergy electrical substation. Construction on the project is expected to commence in June 2008, with an expected completion date of May 2009. The generation facility will be constructed, owned, operated, and maintained by ETEC.

The generation units at the CPPF will consist of two (2) natural gas fired combustion turbines that have a net output of 84 MW each. The project will require the construction of a 1,200 foot 230 kV transmission line to interconnect with Entergy's existing Cypress substation. The output of the CPPF will be used to meet ETEC's power and energy requirements in east Texas, along with providing added reliability and stability to the region's power and transmission system.

Government agencies, private organizations, and the public are invited to participate in the planning and analysis of the proposal. Representatives from USDA Rural Development and ETEC will be available at the scoping meeting to discuss USDA Rural Development's environmental review process, describe the project, the purpose and need for the proposal, and discuss the scope of environmental issues to be considered, answer questions, and accept oral and written comments.

Comments received by the due date will be incorporated into the environmental analyses ETEC prepares and submits to USDA Rural Development for review. USDA Rural Development will use the environmental analyses to determine the significance of the impacts of the project and may adopt it as its EA of the project. USDA Rural Development's EA of the proposal would be available for review and comment for 30 days.

Should USDA Rural Development determine that the preparation of an Environmental Impact Statement is not necessary, it will prepare a Finding of No Significant Impact. Any final action by USDA Rural Development related to the proposed proposal will be subject to, and contingent upon, compliance with all relevant federal, state and local environmental laws and regulations and completion of the environmental review procedures as prescribed by USDA Rural Development Environmental Policies and Procedures (7 CFR part 1794).

Dated: September 6, 2007.
Mark S. Plank,
Director, Engineering and Environmental Staff, USDA/Rural Development/Utilities Programs.

[FR Doc. E7-17917 Filed 9-11-07; 8:45 am]

BILLING CODE 3410-15-P